DEPARTMENT OF ENERGY

Federal Energy Regulatory Commission

Combined Notice of Filings #1

September 01, 2009.

Take notice that the Commission received the following electric rate filings:

Docket Numbers: ER04-230-043; ER01-3155-028; ER01-1385-037; EL01-45-036.

Applicants: New York Independent System Operator, Inc.; Consolidated Edison Company of New York.

Description: NYISO's Nineteenth Quarterly Report.

Filed Date: 09/01/2009.

Accession Number: 20090901-5134.

Comment Date: 5 p.m. Eastern Time on Tuesday, September 22, 2009.

Docket Numbers: ER06-1355-003.

Applicants: Evergreen Wind Power, LLC.

Description: Evergreen Wind Power, LLC submits revised market based rate tariffs that provide a reference to its Certification of Qualifying Facility Status.

Filed Date: 08/21/2009.

Accession Number: 20090825-0046.

Comment Date: 5 p.m. Eastern Time on Friday, September 11, 2009.

Docket Numbers: ER08-1195-001.

Applicants: Red Hills Wind Project, L.L.C.

Description: Supplement to Notice of Non-Material Change in Status of Red Hills Wind Project, L.L.C.

Filed Date: 08/31/2009.

Accession Number: 20090831-5248.

Comment Date: 5 p.m. Eastern Time on Thursday, September 10, 2009.

Docket Numbers: ER09-980-000.

Applicants: WSPP Inc.

Description: WSPP, Inc submits workpapers and/or documentation supporting the cost based rate of Public Service Company of Colorado et al.

Filed Date: 08/26/2009.

Accession Number: 20090828-0055.

Comment Date: 5 p.m. Eastern Time on Wednesday, September 16, 2009.

Docket Numbers: ER09-1218-002.

Applicants: Carolina Power & Light Company.

Description: Carolina Power & Light Co submits an amendment to the May 29, 2009 filing of Revisions to OATT Formula Transmission Rate to Reflect Settlement with Customer and Answer to Deficiency Letter.

Filed Date: 08/31/2009.

Accession Number: 20090831-0083.

Comment Date: 5 p.m. Eastern Time on Monday, September 21, 2009.

Docket Numbers: ER09-1254-001.

Applicants: Southwest Power Pool, Inc.

Description: Southwest Power Pool, Inc submits Revisions to the Open Access Transmission Tariff to Reform Generation Interconnection Procedures, effective 6/2/09.

Filed Date: 08/31/2009.

Accession Number: 20090901-0045.

Comment Date: 5 p.m. Eastern Time on Monday, September 21, 2009.

Docket Numbers: ER09-1255-002.

Applicants: Southwest Power Pool, Inc.

Description: Southwest Power Pool, Inc submits Second Revised Sheet 385 et al. to its FERC Electric Tariff, Fifth Revised Volume 1.

Filed Date: 08/31/2009.

Accession Number: 20090901-0054.

Comment Date: 5 p.m. Eastern Time on Monday, September 21, 2009.

Docket Numbers: ER09-1618-000.

Applicants: Montana Alberta Tie Ltd.

Description: Montana Alberta Tie Ltd. and MATL LLP's Request for Section 205 authorization.

Filed Date: 08/21/2009.

Accession Number: 20090821-5103.

Comment Date: 5 p.m. Eastern Time on Friday, September 11, 2009.

Docket Numbers: ER09-1651-000.

Applicants: New England Power Pool Participants Committee.

Description: New England Power Pool Participants Committee submits counterpart signature pages of New England Power Pool Agreement.

Filed Date: 08/31/2009.

Accession Number: 20090831-0041.

Comment Date: 5 p.m. Eastern Time on Monday, September 21, 2009.

Docket Numbers: ER09-1652-000.

Applicants: PJM Interconnection, L.L.C.

Description: PJM Interconnection, LLC submits executed interconnection service agreement between PJM, Calvert Cliffs 3 Nuclear Project, LLC, and Baltimore Gas and Electric Company.

Filed Date: 08/31/2009.

Accession Number: 20090831-0040.

Comment Date: 5 p.m. Eastern Time on Monday, September 21, 2009.

Docket Numbers: ER09-1653-000.

Applicants: Tampa Electric Company.

Description: Tampa Electric Company submits First Revised Sheet No 67 et al. to its FERC Electric Tariff, Third Revised Volume No 4.

Filed Date: 08/31/2009.

Accession Number: 20090831-0039.

Comment Date: 5 p.m. Eastern Time on Monday, September 21, 2009.

Docket Numbers: ER09-1654-000.

Applicants: MidAmerican Energy Company.

Description: MidAmerican Energy Company submits Original Sheet 1 to FERC Rate Schedule 109.

Filed Date: 08/31/2009.

Accession Number: 20090831-0038.

Comment Date: 5 p.m. Eastern Time on Monday, September 21, 2009.

Docket Numbers: ER09-1655-000.

Applicants: Fowler Ridge II Wind Farm LLC.

Description: Application of Fowler Ridge II Wind Farm LLC for order accepting initial market-based rate tariff, waiving regulations and granting blanket approvals.

Filed Date: 09/01/2009.

Accession Number: 20090901-0056.

Comment Date: 5 p.m. Eastern Time on Tuesday, September 22, 2009.

Docket Numbers: ER09-1657-000.

Applicants: Midwest ISO Transmission Owners, Midwest Independent Transmission System Operator, Inc.

Description: Midwest Independent Transmission System Operator et al. submit Second Revised Sheet 2626 et al. to FERC Electric Tariff, Fourth Revised Volume 1.

Filed Date: 08/31/2009.

Accession Number: 20090901-0046.

Comment Date: 5 p.m. Eastern Time on Monday, September 21, 2009.

Docket Numbers: ER09-1658-000.

Applicants: Virginia Electric and Power Company.

Description: Virginia Electric and Power Company submits First Revised Sheet 36 et al., to First Revised Rate Schedule FERC 109, to be effective 9/1/09.

Filed Date: 08/31/2009.

Accession Number: 20090901-0047.

Comment Date: 5 p.m. Eastern Time on Monday, September 21, 2009.

Docket Numbers: ER09-1659-000.

Applicants: Virginia Electric and Power Company.

Description: Virginia Electric and Power Company submits First Revised Sheet 18 et al. to First Revised Rate Schedule FERC 78 for the Purchase of Electricity for Resale with Craig-Botetourt Electric Coop, to be effective 9/1/09.

Filed Date: 08/31/2009.

Accession Number: 20090901-0048.

Comment Date: 5 p.m. Eastern Time on Monday, September 21, 2009.

Docket Numbers: ER09-1660-000.

Applicants: Virginia Electric and Power Company.

Description: Virginia Electric and Power Company submits First Revised Sheet 16 et al. to FERC Electric Tariff, Second Revised Volume 1, to be effective 9/1/09.

Filed Date: 08/31/2009.

Accession Number: 20090901-0049.

Comment Date: 5 p.m. Eastern Time on Monday, September 21, 2009.

Docket Numbers: ER09-1661-000.

Applicants: NorthWestern Corporation.

Description: NorthWestern Corporation submits the System Balancing Service Agreement under FERC Rate Schedule 265, to be effective 10/30/09.

Filed Date: 08/31/2009.

Accession Number: 20090901-0055.

Comment Date: 5 p.m. Eastern Time on Monday, September 21, 2009.

Docket Numbers: ER09-1662-000.

Applicants: PacifiCorp.

Description: PacifiCorp submits Third Revised Sheet No. 355 et al. to FERC Electric Tariff, Seventh Revised Volume No. 11, effective 8/1/09.

Filed Date: 08/31/2009.

Accession Number: 20090901-0050.

Comment Date: 5 p.m. Eastern Time on Monday, September 21, 2009.

Docket Numbers: ER09-1663-000.

Applicants: PJM Interconnection, L.L.C.

Description: PJM Interconnection, LLC submits Ninth Revised Sheet 523L.01 et al. to FERC Electric Tariff, Sixth Revised Volume 1, to be effective 11/2/09.

Filed Date: 08/31/2009.

Accession Number: 20090901-0051.

Comment Date: 5 p.m. Eastern Time on Monday, September 21, 2009.

Docket Numbers: ER09-1664-000.

Applicants: Ameren Services Company.

Description: Central Illinois Public Service Co submits an executed revised service agreement for Wholesale Distribution Service with Wayne-White Counties Electric Cooperative.

Filed Date: 08/31/2009.

Accession Number: 20090901-0052.

Comment Date: 5 p.m. Eastern Time on Monday, September 21, 2009.

Docket Numbers: ER09-1665-000.

Applicants: Southwest Power Pool, Inc.

Description: Southwest Power Pool, Inc submits an executed Service Agreement for Network Integration Transmission Service with City of Osage City, Kansas etc.

Filed Date: 08/31/2009.

Accession Number: 20090901-0053.

Comment Date: 5 p.m. Eastern Time on Monday, September 21, 2009.

Take notice that the Commission received the following electric securities filings:

Docket Numbers: ES09-50-000.

Applicants: PacifiCorp.

Description: Application for Authorization to Issue and Sell Up To $1.5 Billion of Promissory Notes or Other Evidences of Unsecured Short-Term Indebtedness of PacifiCorp.

Filed Date: 09/01/2009.

Accession Number: 20090901-5100.

Comment Date: 5 p.m. Eastern Time on Tuesday, September 22, 2009.

Take notice that the Commission received the following electric reliability filings:

Docket Numbers: RD09-11-000.

Applicants: North American Electric Reliability Corporation.

Description: Compliance Filing of the North American Electric Reliability Corporation in Response to Paragraphs 26 and 51.

Filed Date: 08/28/2009.

Accession Number: 20090828-5130.

Comment Date: 5 p.m. Eastern Time on Friday, September 18, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Kimberly D. Bose,
Secretary.

[FR Doc. E9-21628 Filed 9-4-09; 8:45 am]

BILLING CODE 6717-01-P